DEPARTMENT OF ENERGY

Federal Energy Regulatory Commission

[Docket No. EL03-221-000]

Borough of Zelienople, PA, Complainant v. American Transmission Systems, Inc., Respondent; Notice of Complaint

August 21, 2003.

Take notice that on August 19, 2003, the Borough of Zelienople, Pennsylvania, (Zelienople) filed with the Federal Energy Regulatory Commission (Commission) a Complaint under Section 206 of the Federal Power Act against American Transmission Systems, Inc. (ATSI). Zelienople complains that ATSI has demanded, charged, and sought to collect from Zelienople a charge for interconnecting its 138 kV transmission line to connect to the Borough's new 138 kV substation that is unjust, unreasonable, unduly discriminatory, preferential, and otherwise unlawful as to Zelienople. Zelienople states that a copy of this complaint was served on ATSI.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date below. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: September 10, 2003.

Magalie R. Salas,
Secretary.

[FR Doc. 03-21996 Filed 8-27-03; 8:45 am]

BILLING CODE 6717-01-P